DEPARTMENT OF EDUCATION

National Institute on Disability and Rehabilitation Research

AGENCY: Office of Special Education and Rehabilitative Services, Department of Education.

ACTION: Notice of Proposed Funding Priorities for Fiscal Years 2001-2002 for a National Center on Accessible Education-Based Information Technology, the Disability and Business Technical Assistance Centers, and a Traumatic Brain Injury Data Collection Center.

SUMMARY: We propose funding priorities for a National Center on Accessible Education-Based Information Technology, the Disability and Business Technical Assistance Centers (DBTACs), and a Traumatic Brain Injury (TBI) Data Collection Center under the National Institute on Disability and Rehabilitation Research (NIDRR) for fiscal years (FY) 2001-2002. We take this action to focus research attention on areas of national need. We intend these priorities to improve the rehabilitation services and outcomes for individuals with disabilities. This notice contains proposed priorities under the Americans with Disabilities Act (ADA) Technical Assistance Projects and the Disability and Rehabilitation Research Projects and Centers Program.

DATES: We must receive your comments on or before December 7, 2000.

ADDRESSES: All comments concerning these proposed priorities should be addressed to Donna Nangle, U.S. Department of Education, 400 Maryland Avenue, SW., room 3414, Switzer Building, Washington, DC. 20202-2645. Comments may also be sent through the Internet: donna_nangle@ed.gov

FOR FURTHER INFORMATION CONTACT: Donna Nangle. Telephone: (202) 205-5880. Individuals who use a telecommunications device for the deaf (TDD) may call the TDD number at (202) 205-4475.

Individuals with disabilities may obtain this document in an alternate format (e.g., Braille, large print, audiotape, or computer diskette) on request to the contact person listed in the preceding paragraph.

SUPPLEMENTARY INFORMATION:

Invitation To Comment

We invite you to submit comments regarding these proposed priorities.

We invite you to assist us in complying with the specific requirements of Executive Order 12866 and its overall requirement of reducing regulatory burden that might result from these proposed priorities. Please let us know of any further opportunities we should take to reduce potential costs or increase potential benefits while preserving the effective and efficient administration of the program.

During and after the comment period, you may inspect all public comments about these priorities in Room 3414, Switzer Building, 330 C Street SW., Washington, DC, between the hours of 8 a.m. and 4 p.m., Eastern time, Monday through Friday of each week except Federal holidays.

Assistance To Individuals With Disabilities in Reviewing the Rulemaking Record

On request, we will supply an appropriate aid, such as a reader or print magnifier, to an individual with a disability who needs assistance to review the comments or other documents in the public rulemaking record for these proposed priorities. If you want to schedule an appointment for this type of aid, you may call (202) 205-8113 or (202) 260-9895. If you use a TDD, you may call the Federal Information Relay Service at 1-800-877-8339.

Goals 2000: Educate America Act

The Goals 2000: Educate America Act (Goals 2000) focuses the Nation's education reform efforts on the eight National Education Goals and provides a framework for meeting them. Goals 2000 promotes new partnerships to strengthen schools and expands the Department's capacities for helping communities to exchange ideas and obtain information needed to achieve the goals.

These proposed priorities would address the National Education Goal that every adult American will be literate and will possess the knowledge and skills necessary to compete in a global economy and exercise the rights and responsibilities of citizenship.

The authority for the programs to establish research priorities by reserving funds to support particular research activities is contained in sections 202(g) and 204 of the Rehabilitation Act of 1973, as amended (29 U.S.C. 762(g) and 764). Regulations governing these programs are found in 34 CFR part 350.

We will announce the final priorities in a notice in the Federal Register. We will determine the final priorities after considering responses to this notice and other information available to the Department. This notice does not preclude us from proposing or funding additional priorities, subject to meeting applicable rulemaking requirements.

Note: This notice does not solicit applications. In any year in which we choose to use these proposed priorities, we invite applications through a notice published in the Federal Register. When inviting applications we designate each priority as absolute.

The proposed priorities refer to NIDRR's Long Range Plan (the Plan). The Plan can be accessed on the World Wide Web at: http://www.ed.gov/legislation/FedRegister/other/1999-12/68576.html.

Priorities on the ADA and Accessible Education-Based Information Technology (IT)

Public Law 101-336, the Americans with Disability Act (ADA), enacted on July 26, 1990, prohibits discrimination against individuals with disabilities in employment, public accommodations, transportation, State and local government, and telecommunications. In October 1991, and again in October 1996, NIDRR awarded five-year grants to establish 10 regional Disability and Business Technical Assistance Centers (DBTACs). These centers provide technical assistance and training on all of the requirements of the ADA to covered entities and individuals with responsibilities and rights under the ADA. Currently, there is one DBTAC in each of the 10 Department of Education regions. For FY 2001 NIDRR is proposing to fund 10 new DBTACs that will maintain the current level of effort on providing information and technical assistance on the ADA as well as add a special emphasis in the area of education-based information technology (IT). The purpose of this special emphasis is to assist covered educational entities in providing children, youth, and adults with disabilities with access to IT.

NIDRR is proposing two priorities toward this end. The first establishes a national center on accessible education-based IT that will operate in collaboration with the DBTACs and will provide support and guidance on education-based accessible IT technical assistance activities. The second proposed priority establishes 10 new DBTACs and delineates the technical assistance and training activities required of them to promote the successful implementation of the ADA, including those activities related to the special emphasis on educational institutions and accessible IT.

For the purposes of these priorities, and consistent with the Clinger-Cohen Act of 1996, information technology is defined to include any equipment or interconnected system or subsystem of equipment that is used in the automatic acquisition, storage, manipulation, management, movement, control, display, switching, interchange, transmission, or reception of data or information. It includes computer hardware, software, networks, and peripherals as well as many electronic and communications devices commonly used in offices. Education-based IT refers to any IT that is used by either students or employees of educational entities, including, but not limited to, teachers, administrators, and administrative staff.

Proposed Priority 1: National Center on Accessible Education-based IT

Background

IT plays a critical role in all educational settings. Regardless of their age, students who cannot access IT are operating at a significant disadvantage to their peers who can. Recent reports suggests that, regardless of age, educators and students with disabilities face significant IT accessibility issues (“Computer and Internet Use Among People with Disabilities,” Dr. Stephen Kaye, Disability Statistics Center, University of California-San Francisco, published by NIDRR, U.S. Department of Education, March 2000; and “What are the Barriers to Use of Advanced Telecommunications for Students with Disabilities in Public Schools,” Issue Brief published by the National Center for Education Statistics, U.S. Department of Education, NCES 2000-42, January 2000). These issues can be broken down into two types: legal and technological.

Section 504 of the Rehabilitation Act of 1973, as amended, prohibits discrimination on the basis of disability in any program or activity of recipients of Federal financial assistance. Virtually all school districts receive Federal funds and have been required to comply with section 504 for many years. The ADA extends this prohibition to a wider range of educational entities; however, with some exceptions, the ADA does not impose any major new requirements on school districts and other educational entities that receive Federal funds and are covered by section 504.

The ADA requires virtually all educational entities to ensure that persons with disabilities are not excluded from participation in, or denied the benefits of, its services, programs, and activities. This includes all aspects of the instructional environment, employment relationships, and services carried out by contractors. When IT is part of the programs, services, or activities provided by the educational entity, those entities have an obligation to ensure that the hardware and software that make up those technologies are accessible to all users. In some instances, educational entities may be unaware of their legal obligation to provide accessible IT to persons with disabilities who enroll or seek to enroll in their programs. Similarly, persons with disabilities may be unaware that they are entitled under the ADA to access the IT of the educational entity.

It may also be the case that educational entities do not have the information they need to either purchase accessible IT, or adapt the IT they have so that it is accessible to students or employees with disabilities. Both the responsible party within the educational entity (e.g., the procurement officer, related services personnel, the teacher, or the computer lab director) and the student, or employee with a disability, may be unaware that accessible IT exists and can be purchased, or that adaptations may be made to the existing IT to provide accessibility. When a student or employee with a disability uses assistive technology (e.g., an augmentative communication device), the technological problem may involve identifying the proper interface between the educational entity's IT and the student or employee's assistive technology. In these instances, information and technical assistance can aid the educational entity to provide accessible IT.

Some educational entities may also be required to comply with the standards for accessible technology to be issued by the Access Board, as required by Section 508 of the Rehabilitation Act. Section 508 requires Federal agencies and departments to ensure equal access to electronic and information technology for individuals with disabilities comparable to those who do not have disabilities, unless such a requirement would cause an undue burden. The Assistive Technology Act (AT Act) requires that States receiving assistance, including sub-recipients of AT Act funds, under the AT State Grants program comply with the requirements of section 508, including the standards developed by the Access Board. Each State must determine whether entities such as colleges and universities or local and intermediate school districts are considered part of the State and therefore, must comply with Section 508 and the standards as published by the Access Board.

Proposed Priority

We propose to establish a National Center on Accessible Education-Based IT to assist educational entities in providing persons with disabilities with accessible IT. The Center must:

(1) Develop new materials and reformat or reprint existing materials to assist educational entities to understand and fulfill their legal obligations to provide accessible IT. These materials may include, but are not limited to, the ADA self-evaluation guide for schools, section 504 and ADA guidance for educational entities, technical materials on IT access, consumers guide to accessible IT, and technical IT standards;

(2) Conduct a national information dissemination campaign to raise awareness on accessible education-based IT and inform target audiences on the availability of technical assistance from the DBTACs and others. This campaign may include, but is not limited to, print and electronic ads, newsletters, presentations at national conferences, and regular electronic communication with national organizations to update them on legal and technological developments;

(3) Promote the procurement by educational entities of accessible information technology that meets the standards for section 508 or universal design principles;

(4) Coordinate with and provide training, materials, and technical assistance to the DBTACs in support of their technical assistance efforts to educational entities on accessible IT;

(5) Provide training, materials, and technical assistance to the U.S. Department of Education's various IT initiatives including, but not limited to, the Regional Technology in Education Consortia, Comprehensive Regional Assistance Centers, the Technology Literacy Challenge Fund, Community Technology Centers, and the Preparing Tomorrow's Teachers to Use Technology Programs in order to promote accessibility by persons with disabilities; and

In carrying out these activities, the National Center on Accessible Education-based IT must:

• Include in its primary target audience elementary and secondary institutions, and postsecondary educational entities including, but not limited to, institutions of higher education, proprietary schools (particularly those offering IT training), and adult education programs;

• Coordinate with NIDRR's Rehabilitation Engineering Research Centers (RERCs) on Information Technology Access and Telecommunications Access, and also with NIDRR's Information Technology Technical Assistance and Training Center;

• Coordinate with relevant Federal agencies responsible for the administration of public laws that address access to and usability of education-based IT for persons with disabilities including, but not limited, to the General Services Administration, the Access Board, the Federal Communications Commission, the Department of Justice, and offices within the Department of Education including the Rehabilitation Services Administration, the Office of Special Education Programs, and the Office for Civil Rights;

• Develop and maintain a web site to assist educational entities to understand and fulfill their legal obligations related to accessible IT; and

• Provide information and technical assistance consistent with other IT accessibility laws, including, but not limited to, section 508 of the Rehabilitation Act.

Proposed Priority 2: Disability and Business Technical Assistance Centers

Background

Covered entities and individuals with responsibilities and rights under the ADA continue to need technical assistance on the ADA. The demand for technical assistance services from the DBTACs has remained high since 1992 (see Table 1), a trend that will likely continue indefinitely.

Table 1.—Summary of Selected DBTAC Technical Assistance and Training Activities From FY 1992 Through FY 1999
Fiscal year | Number of 800 line calls | Number of people trained | Number of technical assistance efforts | Number of hard copy materials disseminated
1992 | 20,000 | 30,759 | 40,313 | 188,842
1993 | 61,000 | 63,341 | 79,964 | 539,511
1994 | 75,700 | 56,800 | 127,736 | 698,040
1995 | 90,400 | 64,870 | 152,395 | 901,878
1996 | 88,500 | 64,502 | 135,000 | 1,800,000
1997 | 91,534 | 70,000 | 180,909 | 785,695
1998 | 92,312 | 86,000 | 157,126 | 1,082,294
1999 | 90,839 | 74,500 | 170,865 | 1,014,057
Source: Annual Reports of NIDRR's ADA Technical Assistance Grantees FY 1992-FY 1999

In many instances, the nature of the technical assistance that the DBTACs provide today is more complex than the technical assistance they provided in the years shortly after the passage of the ADA. This is a result of covered entities seeking to stay current with the growing body of legal precedents as well as standards and policy guidance issued by responsible Federal agencies. However, there are still many covered entities that need information on the most fundamental requirements of the law. Subsequently, DBTACs must continue to provide basic information about the ADA as well as respond to more complex requests for technical assistance and training.

In order to be effective, it is virtually imperative that the DBTACs exploit the benefits of IT and stay current with new developments in the field. For example, the DBTACs use web-based programs to carry out distance learning activities in order to increase access to and participation in their information dissemination efforts. In FY 1999 the DBTACs and the ADA Program Assistance Coordinator's web sites received over 870,001 visits. While there will always be a need to distribute hard copies of materials, the DBTACs receive increasing numbers of requests for electronic copies of these same materials. They also respond to technical questions, provide training, and participate in cooperative efforts related to ADA technical assistance activities using electronic media. To carry out a wide variety of electronic and web-based technical assistance and training activities, the DBTACs' staffs must have a sufficiently high level of expertise on IT.

The DBTACs provide a wide range of technical assistance services such as referrals, consultation, and information dissemination. They also issue newsletters and information briefs, and participate in discussion groups on the Internet. The DBTACs address the needs of non-English populations by distributing materials that have been translated into other languages and employing bilingual information specialists when appropriate. Table 2 indicates the recipient groups of the DBTACs technical assistance, training, and materials distribution activities in FY 1999.

Table 2.—Summary of Percentage of Technical Assistance, Training, and Materials Distributed to Target Audience by DBTACs in FY 1999
Target Audience | Technical assistance (percent) | Training (percent) | Materials distribution (percent)
Disability Entities | 50 | 44 | 45
Businesses | 31 | 24 | 30
Public Entities | 14 | 23 | 18
Other | 5 | 9 | 7
Source: Annual Report of NIDRR's ADA Technical Assistance Grantees FY 1999.

In addition, the DBTACs carry out public awareness activities on the ADA and the services provided by the DBTACs through a variety of means including, but not limited to, radio and television appearances, presentations at conferences, and the production of materials for newspaper and magazine articles. When it enhances their technical assistance activities, the DBTACs also disseminate ADA research findings generated by NIDRR-sponsored grantees and others.

In order to tailor their efforts to State and local needs and maximize their resources, DBTACs also work to increase the capacity of State and local organizations to provide technical assistance, disseminate information, provide training, and promote awareness of the ADA. The DBTACs have established at least one affiliate in every State. These affiliates carry out their activities in collaboration with coalitions of organizations interested in promoting the implementation of the ADA. In addition, the DBTACs support and collaborate with Centers for Independent Living (CILs) to assist them in implementing the ADA through the provision of technical assistance and training.

The DBTACs rely, to the maximum extent possible, on existing Federally-approved materials and, through a systematic process of quality control, ensure the legal sufficiency and accuracy of the information disseminated by the Centers and their affiliates. DBTAC services and activities are accessible to all individuals with disabilities, and all of the materials they distribute are available in alternate formats. The DBTACs also share a national toll-free telephone number that automatically connects the caller with the DBTAC serving the caller's area code. Further, the DBTACs meet semi-annually to coordinate their activities and receive briefings from Federal agencies with responsibilities under the ADA. They also evaluate their technical assistance efforts using the ADA Impact Measurement System (AIMS). AIMS uses a follow-up telephone survey and a postcard survey to measure the impact that the DBTACs' technical assistance has had on its customers and their level of satisfaction with the services that the DBTACs provided. AIMS is currently maintained by one of the DBTACs. The proposed priority includes an optional activity authorizing a DBTAC to maintain AIMS over the proposed project period. From among those DBTAC applicants who propose to maintain AIMS over the project period, the application evaluation process will select one successful applicant to carry out this activity.

Since 1991, the DBTACs have provided technical assistance and training to educational entities on their responsibilities under the ADA. In 1994, NIDRR funded a training project on the ADA for schools and supported the U.S. Department of Education Office for Civil Rights' development and publication of an ADA self-evaluation guide for public elementary and secondary schools. A toll-free ADA hotline specifically for school systems, that originated with the schools training project, is still in operation through the Region I DBTAC. The special emphasis that is being placed on the DBTACs to provide technical assistance on accessible IT to educational entities represents an expansion of their technical assistance efforts. In those instances where the requisite assistance is a matter of helping the entity to understand its legal obligation, NIDRR expects the DBTACs to provide accurate information to the educational entity on the requirements of the ADA. In those instances where the requisite assistance is technical and involves assisting the entity to procure, create, adapt, maintain or evaluate the accessibility of their IT, NIDRR expects the DBTACs to possess the requisite technical expertise or develop partnerships with agencies and organizations who have the necessary technical expertise.

The DBTACs routinely receive inquiries that involve disability-related laws or disability rights laws other than the ADA. In some of these instances, the inquiry concerns the interaction between the ADA and disability-related laws such as the Family and Medical Leave Act or the Worker's Compensation Act. In other instances, individuals with a disability may believe that their civil rights have been violated, but are not sure of the controlling authority. For example, individuals with a disability may want to know about their landlord's responsibility to make their apartment accessible. In this case, in order to provide appropriate technical assistance, the DBTAC must be sufficiently familiar with not only the ADA, but also the Fair Housing Act. Thus to respond directly or to refer the inquirer to an expert source of technical assistance, the DBTACs must be knowledgeable about a wide array of disability-related or disability rights laws.

Proposed Priority

We propose to establish a Regional DBTAC in each of the Department of Education 10 regions to facilitate implementation of the ADA. Each center must:

(1) Provide technical assistance and training and disseminate information to individuals and entities with responsibilities and rights under the ADA on the ADA's requirements as well as developments in case law, policy, and implementation;

(2) Increase the capacity of organizations, at the State and local level, including CILs, to provide technical assistance and training on, disseminate information on, and promote awareness of the ADA;

(3) Promote awareness of the ADA and the availability of services provided by the DBTACs, other NIDRR-sponsored ADA grantees, and other Federal information sources on the ADA;

(4) Provide technical assistance and training and disseminate information on legal obligations of educational entities to provide accessible IT to students and employees;

(5) Provide technical assistance to educational entities to enable them to conduct self-evaluations on the accessibility of their IT;

(6) Provide technical assistance, either directly or through referral, on how to make existing IT accessible and ensure that new IT acquisitions are accessible;

(7) Promote “best practices” by encouraging educational entities to purchase IT consistent with the standards issued by the Access Board under Section 508 or universal design principles, regardless of whether they have a legal obligation to do so;

(8) Provide information to CILs, Parent Training Information Centers, and the Regional Resource Centers on accessible education-based IT; and

(9) Form regional partnerships among Assistive Technology Act grantees, RERCs, Office of Special Education Programs' technology grantees, and other pertinent educational organizations and agencies to guide, coordinate, and if appropriate, carry out technical assistance activities in each region.

In carrying out these activities each DBTAC must:

• Involve individuals with disabilities, parents or other family members of individuals with disabilities, in all phases of the design and operation of the DBTAC to the maximum extent possible;

• Be knowledgeable about a wide array of disability-related or disability rights laws including, but not limited to, sections 504 and 508 of the Rehabilitation Act, the Individuals with Disabilities Education Act, the Air Carriers Access Act, section 255 of the Telecommunications Act, section 188 of the Workforce Investment Act, the Fair Housing Act, the Family and Medical Leave Act, the AT Act, and the Worker's Compensation Act;

• Coordinate its activities with the National Center on Accessible Education-based IT, and Federal agencies including, but not limited to, the Department of Justice, the Equal Employment Opportunity Commission, the Department of Transportation, the Federal Communications Commission, the Access Board, the Department of Education's Office for Civil Rights, the President's Committee on Employment of Persons with Disabilities, the National Council on Disability, and other offices within the Department of Education including the Rehabilitation Services Administration, and the Office of Special Education Programs;

• Provide performance accountability data on a monthly and annual basis as requested by NIDRR;

• Distribute services and resources equitably—taking into account population and size—among each State in its region;

• Address the needs of non-English speaking populations; and

Include in their target audience for activities (4), (5), (6), and (7): elementary and secondary institutions, and postsecondary educational entities including, but not limited to, institutions of higher learning, proprietary schools (particularly those offering IT training), and adult education programs.

In carrying out its evaluation activities, a DBTAC may maintain the ADA Impact Measurement System.

Proposed Additional Selection Criterion for the DBTACs and the National Center on Accessible Education-Based IT Priorities

We will use the selection criteria in 34 CFR 350.54 to evaluate applications under this program. In evaluating applications for the DBTACs and the National Center on Accessible Education-based IT and, we will also use the following factor under the project staff criterion. In determining the quality of the project staff, we will consider the extent to which key personnel have expert knowledge about state-of-the-art IT to conduct all proposed activities.

Disability and Rehabilitation Research Project and Centers Program

The purpose of the DRRP program is to plan and conduct research, demonstration projects, training, and related activities to:

(a) Develop methods, procedures, and rehabilitation technology that maximizes the full inclusion and integration into society, employment, independent living, family support, and economic and social self-sufficiency of individuals with disabilities; and

(b) Improve the effectiveness of services authorized under the Act.

Proposed Priority 3: Traumatic Brain Injury (TBI) Data Center

Background

An estimated 5.3 million Americans currently live with disabilities resulting from brain injury. The Centers for Disease Control (CDC) estimates that approximately 80,000 Americans experience the onset of disabilities resulting from TBI each year. The three leading causes of TBI are motor vehicle crashes, violence, and falls, particularly among the elderly. As stated in the 1998 National Institutes of Health (NIH) Consensus Conference, “TBI may result in lifelong impairment of an individual's physical, cognitive, and psychosocial functioning.”

In 1987, NIDRR established the National Traumatic Brain Injury Model Systems (TBIMS) Program by funding four research and demonstration projects to conduct research on comprehensive, multidisciplinary rehabilitation services to persons who experience TBI. This number expanded to 17 projects in 1998. The multi-project TBIMS program is designed to study the course of recovery and outcomes following the delivery of a coordinated system of care. (Additional information on TBIMS can be found at http://www.tbims.org). The TBIMS database currently contains over 2,000 cases and supports clinical research and research on outcomes including employment, community integration, and quality of life. Through a complex data collection and retrieval program, the TBIMS projects are capable of analyzing different system components to provide information on project cost effectiveness and benefits. Data is collected throughout the rehabilitation process and at specified follow up periods following discharge from the rehabilitation facility.

The parameters of the database are determined collaboratively by TBIMS project directors, in consultation with NIDRR. A syllabus describing the current data elements may be obtained from Donna Nangle at the contact information previously listed. Expansion of the number of projects has broadened the representation of subjects in terms of geographic distribution, ethnic group membership, and socioeconomic status.

In the past, data from the TBIMS database has been largely restricted to the use of TBIMS researchers. Recent Federal regulations (see March 16, 2000, 65 FR 14416-14418) outline conditions under which outside parties may request access to the data under the auspices of the Freedom of Information Act. In addition, there is increased interest in expanding the use of this data in conjunction with population-based data to further research on TBI by the larger research community. Both activities require development of guidelines that ensure subject confidentiality, protect the identity of individual projects, and support use of the data in rigorous research efforts.

Historically, the data center has been funded as a supplement to one of the projects in the TBIMS. We propose to establish a separate TBI data center to maintain this information.

Proposed Priority

We propose to establish a data center for the purpose of managing and facilitating the use of information collected by the TBIMS projects on individuals with traumatic brain injury. The data center must:

(1) Establish and maintain a database repository for data from TBIMS projects while providing for confidentiality, quality control, and data retrieval capabilities, using cost-effective and user-friendly technology;

(2) Ensure data quality, reliability, and integrity by providing training and technical assistance to TBIMS projects on data collection procedures, data entry methods, and use of study instruments;

(3) Provide consultation to NIDRR and directors and staff of the TBIMS projects on utility and quality of data elements;

(4) Support efforts to improve the research findings of the TBIMS projects by providing statistical and other consultation regarding the national database;

(5) Facilitate dissemination of information generated by the TBIMS projects, including statistical information, scientific papers, and consumer materials;

(6) Evaluate the feasibility of linking and comparing TBIMS data to population-based data sets, such as the CDC State-based injury surveillance data and provide technical assistance for such linkage, as appropriate; and

(7) Develop guidelines to provide access to TBIMS data by individuals and institutions, ensuring that data are available in accessible formats for persons with disabilities.

In carrying out these purposes, the center must:

• Demonstrate knowledge of culturally appropriate methods of data collection, including understanding of culturally sensitive measurement approaches; and

• Collaborate with other NIDRR funded projects, e.g., the Model Spinal Cord Injury and Burn Injury Model System Data Centers, regarding issues such as database development and maintenance, center operations, and data management.

Proposed Additional Selection Criterion

We will use the selection criteria in 34 CFR 350.54 to evaluate applications under these programs. The maximum score for all the criteria is 100 points; however, we will also use the following criterion so that up to an additional 10 points may be earned by an applicant for a total possible score of 110 points.

Up to 10 points based on the extent to which an application includes effective strategies for employing and advancing in employment qualified individuals with disabilities in projects awarded under these absolute priorities. In determining the effectiveness of those strategies, we will consider the applicant's prior success, as described in the application, in employing and advancing in employment qualified individuals with disabilities.

Thus, for purposes of this competitive preference, applicants can be awarded up to a total of 10 points in addition to those awarded under the published selection criteria for these priorities. That is, an applicant meeting this competitive preference could earn a maximum total of 110 points.

Applicable Program Regulations: 34 CFR part 350.

Program Authority: 29 U.S.C. 762(g) and 764.

Electronic Access to This Document: You may view this document, as well as all other Department of Education documents published in the Federal Register, in text or Adobe Portable Document Format (PDF) on the Internet at either of the following sites:

http://ocfo.ed.gov/fedreg.htm

http://www.ed.gov/news.html

To use PDF you must have Adobe Acrobat Reader, which is available free at either of the previous sites. If you have questions about using PDF, call the U.S. Government Printing Office (GPO), toll free, at 1-888-293-6498; or in the Washington, DC, area at (202) 512-1530.

Note: The official version of this document is published in the Federal Register. Free Internet access to the official edition of the Federal Register and the Code of Federal Regulations is available on GPO Access at: http://www.access.gpo.gov/nara/index.html.

(Catalog of Federal Domestic Assistance Number: 84.133D, Americans with Disabilities Act Technical Assistance Projects and 84.133A, Disability and Rehabilitation Research Project and Centers Program)
Dated: November 2, 2000.
Judith E. Heumann,
Assistant Secretary for Special Education and Rehabilitative Services.

[FR Doc. 00-28528 Filed 11-06-00; 8:45 am]

BILLING CODE 4000-01-U